DEPARTMENT OF TRANSPORTATION

Federal Railroad Administration

[Docket Number FRA-2010-0180]

Petition for Waiver of Compliance

In accordance with part 211 of title 49 of the Code of Federal Regulations (CFR), this document provides the public notice that by a document dated January 26, 2011, the Denton County Transportation Authority (DCTA) has petitioned the Federal Railroad Administration (FRA) for a waiver of compliance from certain provisions of the Federal railroad safety regulations. FRA assigned the petition Docket Number FRA-2010-0180.

Specifically, DCTA has ordered 11 Stadler Bussnang AG, GTW 2/6 Diesel Multiple Units. These vehicles are constructed by a European manufacturer and meet European safety standards for crashworthiness and related safety measures. Currently, these vehicles are being delivered and tested at a DCTA maintenance facility. DCTA now seeks relief from certain requirements of the “Technical Criteria and Procedures for Evaluating the Crashworthiness and Occupant Protection Performance of Alternatively Designed Passenger Rail Equipment for use in Tier I Service.” In 2010, FRA formed an Engineering Task Force (ETF) to develop crashworthiness criteria for an alternatively designed and constructed passenger vehicle to be capable of operating on the general railroad system with other compliant Tier 1 equipments.

The waiver petition includes documentation on the following crashworthiness issues as required by ETF-1:

• Collision with Conventional Equipment

• Occupant Volume Integrity

• Colliding Equipment Override

• Fluid Entry Inhibition

• End Structure Integrity of Cab End

• End Structure Integrity of Non-Cab End

• Roof Integrity

• Side Structure Integrity

• Truck to Carbody Attachment

• Interior Fixture Attachment

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Page 19477), or at http://www.dot.gov/privacy.html.

Issued in Washington, DC, on February 8, 2012.
Ron Hynes,
Acting Deputy Associate Administrator for Regulatory and Legislative Operations.

[FR Doc. 2012-3347 Filed 2-13-12; 8:45 am]

BILLING CODE 4910-06-P